DEPARTMENT OF DEFENSE

Office of the Secretary

[Transmittal No. 23-52]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-52, Policy Justification, and Sensitivity of Technology.

Dated: November 21, 2024.
Stephanie J. Bost,
Alternate OSD Federal Register Liaison Officer, Department of Defense.

BILLING CODE 6001-FR-P

BILLING CODE 6001-FR-C

Transmittal No. 23-52

Notice of Proposed Issuance of Letter of Offer Pursuant to Section 36(b)(1) of the Arms Export Control Act, as amended

(i) Prospective Purchaser: Government of the United Arab Emirates

(ii) Total Estimated Value:

Major Defense Equipment * | $45 million
Other | $40 million
Total | $85 million

Funding Source: National Funds.

(iii) Description and Quantity or Quantities of Articles or Services under Consideration for Purchase:

Major Defense Equipment (MDE):

Eighteen (18) AN/TPQ-50 Radar Systems—Man Portable Version

Non-MDE:

Also included are 107mm High Explosive (HE) rockets (for CONUS testing only); Computer Digital Military Laptop Radar Control Display units; 5kW Advanced Medium Mobile Power Source (AMMPS) Trailer-Mounted, Diesel Engine Driven Power Unit PU-2001; spares; mission equipment; communication and navigation equipment; support equipment; repair parts; special tools and test equipment; technical data and publications; site survey; United States (U.S.) Government and contractor technical and logistics personnel services; and other related elements of logistics and program support.

(iv) Military Department: Army (AE-B-ZVL).

(v) Prior Related Cases, if any: None.

(vi) Sales Commission, Fee, etc., Paid, Offered, or Agreed to be Paid: None.

(vii) Sensitivity of Technology Contained in the Defense Article or Defense Services Proposed to be Sold: See Attached Annex.

(viii) Date Report Delivered to Congress: December 4, 2023.

* As defined in Section 47(6) of the Arms Export Control Act.

POLICY JUSTIFICATION

United Arab Emirates—AN/TPQ-50 Radar

The Government of the United Arab Emirates (UAE) has requested to buy eighteen (18) AN/TPQ-50 Radar Systems—man portable version. Also included are 107mm High Explosive (HE) rockets (for CONUS testing only); Computer Digital Military Laptop Radar Control Display units; 5kW Advanced Medium Mobile Power Source (AMMPS) Trailer-Mounted, Diesel Engine Driven Power Unit PU-2001; spares; mission equipment; communication and navigation equipment; support equipment; repair parts; special tools and test equipment; technical data and publications; site survey; U.S. Government and contractor technical and logistics personnel services; and other related elements of logistics and program support. The estimated total cost is $85 million.

This proposed sale will support the foreign policy and national security of the United States by helping to improve the security of an important regional partner. The UAE is a vital U.S. partner for political stability and economic progress in the Middle East.

The proposed sale will support efforts to protect critical infrastructure and high value civilian assets, as well as military installations and forces from rocket, artillery, and mortar (RAM) and unmanned aerial system threats. It will also further enhance the United States—UAE relationship, both politically and militarily, while also increasing the UAE's effectiveness in executing military and civil defense operations that promote U.S. national interests. The UAE will use the TPQ-50 radars to recognize incoming threats from hostile nations or agents of adversary nations. The United Arab Emirates will have no difficulty absorbing this equipment and services into its armed forces.

The proposed sale of this equipment and support will not alter the basic military balance in the region.

The principal contractor will be SRC Inc, Syracuse, NY. There are no known offset agreements proposed in connection with this potential sale.

Implementation of this proposed sale will not require the permanent assignment of any additional U.S. Government or contractor representatives to the UAE. Temporary periods of travel for two-week durations for both U.S. Government and contractor personnel will be necessary to conduct Operator/Maintainer training, as well as System Integration & Check Out (SICO)/Quality Assurance and Testing (QUAT) activities.

There will be no adverse impact on U.S. defense readiness as a result of this proposed sale.

Transmittal No. 23-52

Notice of Proposed Issuance of Letter of Offer Pursuant to Section 36(b)(1) of the Arms Export Control Act

Annex

Item No. vii

(vii) Sensitivity of Technology:

1. The AN/TPQ-50 Radar System—man portable version—provides continuous 360-degree surveillance and 3-D rocket, artillery, and mortar (RAM) locations using a L band non-rotating antenna with fixed elevation beams and which is electronically steered in azimuth only. Its full azimuth coverage allows it to simultaneously detect and track multiple rounds fired from separate locations within a 700 square kilometer surveillance area. The AN/TPQ 50 radar provides Point of Origin (POO) and Point of Impact (POI) locations for hostile RAM fire and tracking of air breathing targets (ABTs) in air surveillance (AS) and multi-mission radar (MMR) modes.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the United Arab Emirates can provide substantially the same degree of protection for the sensitive technology being released as the U.S. Government. This sale is necessary in furtherance of the U.S. foreign policy and national security objectives outlined in the Policy Justification.

5. All defense articles and services listed in this transmittal have been authorized for release and export to the United Arab Emirates.

[FR Doc. 2024-27773 Filed 11-26-24; 8:45 am]

BILLING CODE 6001-FR-P